DEPARTMENT OF JUSTICE

Notice of Lodging of Consent Decree Under the Residential Lead-Based Paint Hazard Reduction Act

Notice is hereby given that on December 3, 2010 a proposed Consent Decree in United States v. Combined Development Co. I, LLC, et al., Civil Action No. 1:10-cv-853 was lodged with the United States District Court for the Southern District of Ohio.

The consent decree settles claims against the owners and managers of 166 housing units in nine separate properties located in or near Cincinnati, Ohio. The claims were brought on behalf of the Environmental Protection Agency (“U.S. EPA”) and the Department of Housing and Urban Development (“HUD”) under the Residential Lead-Based Paint Hazard Reduction Act, 42 U.S.C. 4851 et seq. (“Lead Hazard Reduction Act”). The United States alleged in the complaint that the Defendants failed to make one or more of the disclosures or to complete one or more of the disclosure activities required by the Lead Hazard Reduction Act.

Under the Consent Decree, the Defendants will certify that they are complying with residential lead paint notification requirements. The Defendants will submit a plan for window replacement work and will replace all windows known to or believed to contain lead-based paint in all residential properties owned or managed by Defendants that are not certified lead-based paint free. In addition, Defendants will abate lead-based paint hazards on friction and impact surfaces, stabilize other lead-based paint hazards, and pay an administrative penalty of $7,500.

The Department of Justice will receive for a period of thirty (30) days from the date of this publication comments relating to the Proposed Consent Decree. Comments should be addressed to the Assistant Attorney General, Environment and Natural Resources Division, and either e-mailed to pubcomment-ees.enrd@usdoj.gov or mailed to U.S. Department of Justice, Washington, DC 20044-7611 P.O. Box 7611, U.S. Department of Justice, Washington, DC 20044-7611, and should refer to United States v. Combined Development Co. I, LLC, et al., D.J. Ref. # 90-5-1-1-09435.

The Proposed Consent Decree may be examined at the Department of Housing and Urban Development, Office of General Counsel, 451 7th St. NW., Room 9262, Washington, DC 20410; at the office of the United States Attorney for the Southern District of Ohio, 303 Marconi Blvd., Suite 200, Columbus, Ohio 43215 (Attn. Assistant United States Attorney Andrew M. Malek); and at U.S. EPA Region 5, 77 W. Jackson Blvd., Chicago, IL 60604. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-30900 Filed 12-8-10; 8:45 am]

BILLING CODE 4410-15-P